NATIONAL SCIENCE FOUNDATION

Proposal Review Panel for Chemistry; Notice of Meeting

In accordance with the Federal Advisory Committee Act (Pub. L. 92-463, as amended), the National Science Foundation announces the following meeting:

Name: CCI Phase I Cyber Review Panel (1191).

Date and Time:

February 12, 2013 10:30 a.m.-6:30 p.m.,

February 13, 2013 9:00 a.m.-5:30 p.m.

Place: Videoconferencing. National Science Foundation, 4201 Wilson Blvd., Arlington, Virginia 22230.

Type of Meeting: Part-open.

Contact Person: Suk-Wah Tam-Chang, Program Director, Centers for Chemical Innovation Program, Division of Chemistry, Room 1055, National Science Foundation, 4201 Wilson Boulevard, Arlington, VA 22230, (703) 292-8684.

Purpose of Meeting: To conduct an in depth evaluation of performance, to assess progress towards goals, and to provide recommendations.

Agenda

Tuesday, Feb 12, 2013 (all times Eastern)

10:30 a.m.-11:30 a.m. Charge to Panel, instructions and discussion (Closed)

11:30 a.m.-12:30 p.m. Lunch

12:30 p.m.-2:15 p.m. Presentation from “Center for Multiscale Theory and Simulation” (Open)

2:15 p.m.-2:30 p.m. Break

2:30 p.m.-3:00 p.m. Panel—Center Q&A (Open)

3:00 p.m.-6:30 p.m. Panel discusses and prepares report (Closed)

Wednesday, Feb 13, 2013 (all times Eastern)

9:00 a.m.-9:30 a.m. Panel discussions (Closed)

9:30 a.m.-11:15 a.m. Presentation from “Center for Sustainable Polymer” (Open)

11:15 a.m.-11:30 a.m. Break

11:30 a.m.-12:00 p.m. Panel—Center Q&A (Open)

12:00 noon-1:00 p.m. Lunch

1:00 p.m.-5:30 p.m. Panel discusses and prepares reports (Closed)

Reason for Closing: The meeting is partially closed to the public because the Panel will be reviewing proposal actions that will include privileged intellectual property and personal information that could harm individuals if they were disclosed. If discussions were open to the public, these matters that are exempt under 5 U.S.C. 552b(c) (4) and (6) of the Government Sunshine Act would be improperly disclosed.

Dated: January 15, 2013.
Susanne Bolton,
Committee Management Officer.

[FR Doc. 2013-01088 Filed 1-18-13; 8:45 am]

BILLING CODE 7555-01-P